ENVIRONMENTAL PROTECTION AGENCY

[EPA-HQ-OPP-2019-0185; FRL-9995-64]

Pesticides; Draft Revised Method for National Level Endangered Species Risk Assessment Process for Biological Evaluations of Pesticides; Extension of Comment Period

AGENCY: Environmental Protection Agency (EPA).

ACTION: Notice; extension of comment period.

SUMMARY: EPA issued a notice in the Federal Register of May 16, 2019, opening a 45-day comment period for a draft revised method for conducting national level threatened and endangered species biological evaluations for pesticides. The May 16, 2019 Notice also announced a June 10, 2019 public meeting for EPA to present the draft revised method and provide an additional opportunity for the public to provide feedback. This document extends the comment period for 45 days, from July 1, 2019 to August 15, 2019. EPA is extending the comment period after receipt and consideration of seven extension requests, to date, citing the following reasons for the requests: The complex and highly technical nature of the revised draft; the need to engage experts familiar with the subject matter; the potential wide-ranging impacts of the revisions and the importance of soliciting feedback from stakeholders who may be affected; and the additional time needed to develop constructive comments. In addition, stakeholders may want to review the recording of the June 10, 2019 public meeting that is now available in the revised method docket (EPA-HQ-OPP-2019-0185). EPA responded to a number of clarifying questions about the draft revised method at that public meeting. Therefore, EPA believes that additional time for the public to consider the clarifying information provided at that meeting will further ensure meaningful stakeholder involvement in this process. This extension will facilitate the submission of high quality, useful comments during the public comment period.

DATES: Comments, identified by docket identification (ID) number EPA-HQ-OPP-2019-0185, must be received on or before August 15, 2019.

ADDRESSES: Follow the detailed instructions provided under ADDRESSES in the Federal Register document of May 16, 2019 (Vol. 84 FR 22120) (FRL-9993-03).

FOR FURTHER INFORMATION CONTACT: Tracy Perry, Pesticide Re-Evaluation Division (7508P), Office of Pesticide Programs, Environmental Protection Agency, 1200 Pennsylvania Ave. NW, Washington, DC 20460-0001; telephone number: 703-308-0128; email address: perry.tracy@epa.gov.

SUPPLEMENTARY INFORMATION: This document extends the public comment period established in the Federal Register document of May 16, 2019. In that document, EPA opened a 45-day comment period for a draft revised method for conducting national level threatened and endangered species biological evaluations for pesticides. EPA is hereby extending the comment period, which was set to end on July 1, 2019, to August 15, 2019.

To submit comments, or access the docket, please follow the detailed instructions provided under ADDRESSES in the Federal Register document of May 16, 2019. If you have questions, consult the person listed under FOR FURTHER INFORMATION CONTACT.

Authority: 7 U.S.C. 136 et seq.

Dated: June 26, 2019.
Alexandra Dapolito Dunn,
Assistant Administrator, Office of Chemical Safety and Pollution Prevention.

[FR Doc. 2019-13993 Filed 6-28-19; 8:45 am]

BILLING CODE 6560-50-P